DEPARTMENT OF LABOR

Employment and Training Administration

Solicitation for Grant Applications (SGA) Grants for Small Faith-Based and Community-Based Non-Profit Organizations; Amendment

AGENCY: Employment and Training Administration (ETA), Labor.

ACTION: Notice; amendment.

SUMMARY: The Employment and Training Administration published a document in the Federal Register of April 4, 2003, concerning the availability of grant funds for small faith-based and community-based non-profit organizations. The document is being amended.

EFFECTIVE DATE: April 18, 2003.

FOR FURTHER INFORMATION CONTACT: Linda Forman, Grants Management Specialist, Division of Federal Assistance, Fax (202) 219-8739.

Amendment to the Federal Register Notice dated: 68 FR No. 65/Friday, April 4, 2003: Legal Rules That Apply to Faith-based Organizations That Receive Government Funds

The government is prohibited from directly funding religious activity.* These grants may not be used for religious instruction, worship, prayer, proselytizing or other inherently religious practices. Neutral, secular criteria that neither favor nor disfavor religion must be employed in the selection of grant and sub-grant recipients. In addition, under the WIA and DOL regulations implementing the Workforce Investment Act, a recipient may not train a participant in religious activities, or permit participants to construct, operate, or maintain any part of a facility that is primarily used or devoted to religious instruction or worship. Under WIA, “no individual shall be excluded from participation in, denied the benefits of, subjected to discrimination under, or denied employment in the administration of or in connection with, any such program or activity because of race, color, religion, sex (except as otherwise permitted under Title IX of the Education Amendments of 1972), national origin, age, disability, or political affiliation or belief.”

*The term “direct” funding is used to describe funds that are provided “directly” by a governmental entity or an intermediate organization with the same duties as a governmental entity, as opposed to funds that an organization receives as the result of the genuine and independent private choice of a beneficiary. In other contexts, the term “direct” funding may be used to refer to those funds that an organization receives directly from the Federal government (also known as “discretionary” funding), as opposed to funding that it receives from a State or local government (also known as “indirect” or “block grant” funding). In this SGA, the term “direct” has the former meaning.

Dated: April 15, 2003.
Signed at Washington, DC, this 15th day of April, 2003.
James W. Stockton,
Grant Officer.

[FR Doc. 03-9588 Filed 4-17-03; 8:45 am]

BILLING CODE 4510-30—M